DEPARTMENT OF LABOR

Employment and Training Administration

[TA-W-80,487]

Stimson Lumber Company Arden Division Including On-Site Leased Workers From Securitas Security Services USA and Briteway Janitorial Colville, WA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on January 18, 2012, applicable to workers and former workers of Stimson Lumber Company, Arden Division, Colville, Washington. The workers are engaged in activities related to the production of cedar lumber. The Department's Notice was published in the Federal Register on February 14, 2012 (77 FR 8283).

At the request of the State agency, the Department reviewed the certification for workers of the subject firm and the new information supplied by the State.

The Department determines that workers from Securitas Security Services USA and Briteway Janitorial were employed on-site at the Colville, Washington location of Stimson Lumber Company and were sufficiently under the control of Stimson Lumber Company to be considered leased workers.

The intent of the Department's certification is to include all workers of the subject firm adversely affected by customer imports of articles from Canada.

Based on these findings, the Department is amending this certification to include workers leased from Securitas Security Services USA and Briteway Janitorial working on-site at the Colville, Washington location of the subject firm.

The amended notice applicable to TA-W-80,487 is hereby issued as follows:

All workers of Stimson Lumber Company, Arden Division, including on-site leased workers from Securitas Security Services USA and Briteway Janitorial, Colville, Washington, who became totally or partially separated from employment on or after September 27, 2010, through January 18, 2014, are eligible to apply for adjustment assistance under Section 223 of the Trade Act of 1974, and are also eligible to apply for alternative trade adjustment assistance under Section 246 of the Trade Act of 1974.

Signed at Washington, DC, this 14th day of March 2012.
Del Min Amy Chen,
Certifying Officer, Office of Trade Adjustment Assistance.

[FR Doc. 2012-7160 Filed 3-23-12; 8:45 am]

BILLING CODE 4510-FN-P